DEPARTMENT OF HEALTH AND HUMAN SERVICES

Administration for Children and Families

[CFDA Number: 93.568]

Proposed Reallotment of Fiscal Year 2024 Funds for the Low Income Home Energy Assistance Program

AGENCY: Office of Community Services (OCS), Administration for Children and Families (ACF), Department of Health and Human Services (HHS).

ACTION: Notice for public comment.

SUMMARY: ACF OCS announces a preliminary determination that funds from the federal fiscal year 2024 (FY24) Low Income Home Energy Assistance Program (LIHEAP) are available for reallotment to states, territories, tribes, and tribal organizations that received FY25 direct LIHEAP awards. The purpose of this proposed action is to redistribute FY24 annual LIHEAP funds that recipients were unable to obligate or carry over to FY25. No sub-recipients of these recipients or other entities may apply for these funds.

DATES: Comments are due by: August 25, 2025.

ADDRESSES: Comments may be submitted to: Raessa Singh, Senior Advisor, Office of Community Services, Administration for Children and Families, 330 C Street SW, 5th Floor; Mail Room 5425; Washington, DC 20201 or via email: raessa.singh@acf.hhs.gov.

FOR FURTHER INFORMATION CONTACT: Kate Thomas, Energy Assistance Program Specialist, Office of Community Services, 330 C Street SW, 5th Floor; Mail Room 5425; Washington, DC 20201. Telephone: 202-690-5737; email: kate.thomas@acf.hhs.gov.

SUPPLEMENTARY INFORMATION: After receiving Carryover and Reallotment Reports (CRRs), ACF has determined that $2,425,645 in FY24 LIHEAP funds may be available for reallotment for FY25. This determination was based on the reports of unobligated balances of 22 recipients. LIHEAP recipients submitted the FY24 CRRs to OCS, as required by regulations applicable to LIHEAP at 45 CFR 96.81(b).

The LIHEAP statute allows recipients who have funds unobligated at the end of the FY to request permission to carry over up to 10 percent of their full-year allotments to the next FY (42 U.S.C. 8626(b)(2)). Funds in excess of this amount must be returned to the U.S. Department of Health and Human Services and are subject to reallotment under 42 § U.S.C. 8626(b)(1).

In accordance with 42 U.S.C. 8626(b)(3), beginning the week of May 19, 2025, ACF began notifying each of the 22 recipients with unobligated funds above their carryover caps. In these notices, ACF informed each recipient of the amount that, according to the recipients' reports, the recipient needed to return for de-obligation and redistribution to FY25 recipients as part of the reallotment. It also gave each recipient 30 calendar days to provide comments directly to ACF.

All LIHEAP recipients that receive a portion of these funds will be notified of the final reallotment amount redistributed to them for FY25. This decision will also be published in the Federal Register.

The FY24 LIHEAP funds ACF preliminarily expects to become available for reallotment determination, come from the following recipients in the following amounts:

Name of recipient that has funds to be returned for reallotment | Preliminary amount available for reallotment ¹
Alaska | $487,444
District of Columbia | 21,181
Idaho | 530,976
Michigan | 477,229
Nebraska | 371,160
Bishop Paiute | 4,736
Chuathbaluk Traditional Council | 23,027
Conf. Tribes of Warm Springs | 19,514
Cow Creek Band of Umpqua Indians | 3,667
Fort Sill Apache Tribe | 1,106
Hoh Tribe | 7,614
Jicarilla Apache Tribe | 27,714
Little River Band of Ottawa Indians | 7,586
Nanticoke Lenni-Lenape Tribal Nation | 58,113
Nooksack Indian Tribe | 11,038
Orutsararmuit Native Council | 268,644
Passamaquoddy Tribe—Pleasant Point | 14,674
Quapaw Tribe | 3,942
Quileute Tribe | 49,452
Round Valley | 26,850
Sac & Fox Tribe of Oklahoma | 9,451
Samish Tribe | 527
Total | 2,425,645
¹ Preliminary funds for reallotment consist of the funds in excess of LIHEAP's 10 percent carryover cap that 22 recipients indicated on the CRRs as unobligated. This amount to be reconciled with recipients' Federal Financial Report (FFR) reports and PMS amounts. Final reallocation amounts will differ once reconciled.

If funds are realloted, they will be allocated in accordance with 42 U.S.C. 8623 and must be treated by LIHEAP recipients as funds appropriated for FY25. As FY25 funds, they will be subject to all requirements of the LIHEAP statute, including 42 U.S.C. 8626(b)(2), which requires that a recipient obligate at least 90 percent of its total block grant allocation for a FY by the end of the FY for which the funds are appropriated; that is, by September 30, 2025. Furthermore, recipients that receive these funds may use these funds for any purpose authorized under LIHEAP and must add them to their total LIHEAP funds payable for FY25 for purposes of calculating statutory caps on administrative costs, carryover, Assurance 16 activities, and weatherization assistance.

Additionally, all recipients of these funds must (1) ensure that these funds are included in the amounts on Lines 1.1 of their FY24 CRRs; (2) reconcile these funds, to the extent that they received them, on their corresponding FFRs; and (3) record, on their FY25 Household Reports, households that receive benefits at least partly from these funds. State recipients must also ensure that these funds are included in the Grantee Survey sections of their FY25 LIHEAP Performance Data Forms.

Statutory Authority: 42 U.S.C. 8626(b).

Anthony Petruccelli,
Senior Grants Policy Specialist, Office of Grants Policy, Office of Administration.

[FR Doc. 2025-14086 Filed 7-24-25; 8:45 am]

BILLING CODE 4184-80-P